ENVIRONMENTAL PROTECTION AGENCY

40 CFR Part 52

[EPA-R06-OAR-2008-0638; FRL-9613-7]

Approval and Disapproval and Promulgation of Implementation Plans; Texas; Infrastructure and Interstate Transport Requirements for the 1997 Ozone and the 1997 and 2006 PM2.5 NAAQS

Correction

In Federal Register correction rule document C1-2011-33253 appearing on page 1873 in the issue of Thursday, January 12, 2012, the correction should have read as follows:

§ 52.2270 [Corrected]

1. On page 81392, in § 52.2270(c), in the table appearing at the bottom of the page, in the entry under the column titled “PA approval date”, “12/28/2012” should read “2/28/2011”.

2. On page 81393, in § 52.2270(c) and (e), in both tables appearing on this page, in the two entries under the columns titled “EPA approval date”, “12/28/2012” should read “12/28/2011”.

[FR Doc. C2-2011-33253 Filed 1-18-12; 8:45 am]

BILLING CODE 1505-01-D